DEPARTMENT OF HOMELAND SECURITY

Bureau of Customs and Border Protection

Notice of Availability and Public Open House Announcement for the Draft Environmental Impact Statement for Construction, Maintenance, and Operation of Tactical Infrastructure, U.S. Border Patrol, Rio Grande Valley Sector, Texas

AGENCY: Customs and Border Protection, Department of Homeland Security.

ACTION: Notice of Availability.

SUMMARY: Customs and Border Protection (CBP) announces that a Draft Environmental Impact Statement (EIS) is available for public review and comment. Pursuant to the National Environmental Policy Act of 1969, 42 U.S.C. 4321 et seq. (NEPA), CBP has prepared a Draft EIS to identify and assess the potential impacts associated with the proposed construction, maintenance, and operation of tactical infrastructure, to include pedestrian fence, access roads, and patrol roads along approximately 70 miles of the U.S./Mexico international border within the U.S. Border Patrol (USBP) Rio Grande Valley Sector, Texas (the Proposed Action).

DATES: The Draft EIS will be available for public review and comment on November 16, 2007 and all comments must be received by December 31, 2007.

A public open house will be held on December 11, 2007, at the McAllen Convention Center in McAllen, TX. A second public open house will be held on December 12, 2007, at the Brownsville Events Center in Brownsville, TX. Each public open house will be held from 4:30 p.m. to 8 p.m. Please refer to the SUPPLEMENTARY INFORMATION section below for more information.

ADDRESSES: Copies of the Draft EIS can be downloaded by visiting www.BorderFenceNEPA.com, or https://ecso.swf.usace.army.mil/Pages/Publicreview.cfm, or requested by emailing: information@BorderFenceNEPA.com. To request a hard copy of the Draft EIS, you may call toll-free 1-877-752-0420. Alternatively, written requests for information may be submitted to: Charles McGregor, U.S. Army Corps of Engineers, Engineering and Construction Support Office, 819 Taylor St., Room 3B10, Fort Worth, Texas 76102; phone: (817) 886-1585; and fax: (757) 282-7697. Hard copies of the Draft EIS can be reviewed at the McAllen Memorial Library (601 N. Main St., McAllen, TX 78501, (956) 688-3300); Speer Memorial Library (801 E. 12th St., Mission, TX 78572, (956) 580-8750); Brownsville Public Library (2600 Central Blvd., Brownsville, TX 78520, (956) 548-1055); Rio Grande City Public Library (591 E. Canales St., Rio Grande City, TX 78582, (956) 487-4389); Weslaco Public Library (525 S. Kansas Ave., Weslaco, TX 78596, (956) 968-4533); Mercedes Memorial Library (434 S. Ohio Ave., Mercedes, TX 78570, (956) 565-2371); Harlingen Public Library (410 76 Dr., Harlingen, TX 78550, (956) 216-5802); and San Benito Public Library (101 W. Rose St., San Benito, TX 78586, (956) 361-3860).

FOR FURTHER INFORMATION CONTACT: Charles McGregor, U.S. Army Corps of Engineers, Engineering and Construction Support Office, 819 Taylor St., Room 3B10, Fort Worth, Texas 76102; phone: (817) 886-1585; and fax: (757) 282-7697.

SUPPLEMENTARY INFORMATION:

Background

On September 24, 2007, CBP published a Notice of Intent to Prepare an EIS in the Federal Register (72 FR 54276) for the Proposed Action. This EIS is being prepared to comply with NEPA; the Council on Environmental Quality regulations in 40 CFR Parts 1500-1508; and Department of Homeland Security (DHS) Management Directive 5100.1, Environmental Planning Program.

The mission of CBP is to prevent terrorists and terrorist weapons from entering the U.S., while also facilitating the flow of legitimate trade and travel. In supporting CBP's mission, USBP is charged with establishing and maintaining effective control of the border of the U.S. The purpose of the Proposed Action is to provide USBP agents with the tools necessary to strengthen their control of the U.S. border between Ports of Entry in the Rio Grande Valley Sector. The Proposed Action also provides a safer work environment and enables USBP agents to enhance response time.

The Proposed Action includes the installation of tactical infrastructure in 21 sections of fence along the international border with Mexico in the vicinity of Roma, Rio Grande City, McAllen, Progresso, Mercedes, Harlingen, and Brownsville, Texas. Individual fence sections would range from approximately 1 mile to more than 13 miles in length. For much of its length, the proposed tactical infrastructure would follow the existing U.S. Section International Boundary and Water Commission levee. The tactical infrastructure would cross multiple land use types, such as agricultural, rural, suburban, and urban. Impacted parcels are both publicly and privately owned. The Proposed Action would also encroach upon portions of the Lower Rio Grande Valley National Wildlife Refuge and Texas state parks in the Rio Grande Valley.

Two alternatives for the route for the tactical infrastructure are being considered under the Proposed Action—Route A and Route B. Route A is the route initially identified by USBP Rio Grande Valley Sector as meeting its operational requirements. Route B was developed through coordination with Federal and state agencies and incorporates input received through the public scoping period. The Route B alignment continues to meet current operational requirements with less environmental impact.

In addition to Routes A and B described above, an alternative of two layers of fence, known as primary and secondary fence, is analyzed in the EIS. Under this alternative, two layers of fence would be constructed approximately 130 feet apart along the same alignment as Route B and would be most closely aligned with the fence description in the Secure Fence Act of 2006, Public Law 109-367, 120 Stat. 2638, 8 U.S.C. 1701 note, 8 U.S.C. 1103 note. This alternative would also include construction and maintenance of access and patrol roads for USBP agents. The patrol road would be between the primary and secondary fences.

Under the No Action Alternative, proposed tactical infrastructure would not be built and there would be no change in fencing, access roads, or other facilities along the U.S./Mexico international border in the proposed project locations.

Public Open Houses

CBP will hold public open houses to provide information and invite comments on the Proposed Action and the Draft EIS. A public open house will be held on December 11, 2007, at the McAllen Convention Center in McAllen, TX. A second public open house will be held on December 12, 2007, at the Brownsville Events Center in Brownsville, TX. Each public open house will be held from 4:30 p.m. to 8 p.m. Central Standard Time. Notifications of these open houses will be published in the Brownsville Herald, Valley Morning Star, The Monitor, La Frontera, and El Nuevo Heraldo one week prior to these open houses. USBP agents and Draft EIS preparers will be available during the open houses. Anyone wishing to submit comments may do so orally and/or in writing at the open houses. Comments received at the open houses will be recorded and transcribed into the public record for the meeting. Commentors must include their name and address. Spanish language translation will be provided. Those who plan to attend the public open house and will need special assistance such as sign language interpretation or other reasonable accommodation should notify the U.S. Army Corps of Engineers (see FOR FURTHER INFORMATION CONTACT) at least 3 business days in advance. Include contact information, as well as information about specific needs. Those unable to attend may submit comments as described under “Request for Comments” below.

Request for Comments

CBP requests public participation in the EIS process. The public may participate by attending public open houses and submitting written comments on the Draft EIS. CBP will consider all comments submitted during the public comment period, and subsequently will prepare the Final EIS. CBP will announce the availability of the Final EIS and once again give interested parties an opportunity to review the document.

When submitting comments, please include name and address, and identify comments as intended for the Rio Grande Valley Sector Draft EIS. To avoid duplication, please use only one of the following methods:

(a) Attendance and submission of comments at the Public Open House meetings to be held December 11, 2007 at the McAllen Convention Center in McAllen, TX and December 12, 2007 at the Brownsville Events Center in Brownsville, TX.

(b) Electronically through the Web site at www.BorderFenceNEPA.com.

(c) By e-mail to: RGVcomments@BorderFenceNEPA.com.

(d) By mail to: Rio Grande Valley Tactical Infrastructure EIS, c/o e²M, 2751 Prosperity Avenue, Suite 200, Fairfax, Virginia 22031.

(e) By fax to: (757) 282-7697.

Comments on the Draft EIS should be submitted by December 31, 2007.

Dated: November 8, 2007.
Elaine Killoran,
Acting Assistant Commissioner, Office of Finance, Customs and Border Protection.

[FR Doc. E7-22483 Filed 11-15-07; 8:45 am]

BILLING CODE 9111-14-P